DEPARTMENT OF TRANSPORTATION

Federal Aviation Administration

14 CFR Part 39

[Docket No. FAA-2022-0015; Project Identifier AD-2021-00832-R]

RIN 2120-AA64

Airworthiness Directives; Airbus Helicopters

AGENCY: Federal Aviation Administration (FAA), DOT.

ACTION: Supplemental notice of proposed rulemaking (SNPRM).

SUMMARY: The FAA is revising a notice of proposed rulemaking (NPRM) that would have applied to certain Airbus Helicopters Model EC225LP helicopters. This action revises the NPRM by removing the requirement to remove main rotor (M/R) rotating swashplates (swashplates) from service that have accumulated less than 7 years since the date of manufacture; increasing the life limit for certain swashplates; requiring additional visual inspections, and adding repetitive inspections for certain swashplates that have accumulated 7 or more years, but less than 13 years, since the date of manufacture; and updating the service information. The FAA is proposing this airworthiness directive (AD) to address the unsafe condition on these products. Since these actions would impose an additional burden over those in the NPRM, the agency is requesting comments on this SNPRM.

DATES: The FAA must receive comments on this SNPRM by September 12, 2022.

ADDRESSES: You may send comments, using the procedures found in 14 CFR 11.43 and 11.45, by any of the following methods:

• Federal eRulemaking Portal: Go to www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information identified in this SNPRM, contact Airbus Helicopters, 2701 North Forum Drive, Grand Prairie, TX 75052; phone: (972) 641-0000 or (800) 232-0323; fax (972) 641-3775; or at www.airbus.com/helicopters/technical-services/support.html. You may view this service information at the FAA, Office of the Regional Counsel, Southwest Region, 10101 Hillwood Pkwy., Room 6N-321, Fort Worth, TX 76177. For information on the availability of this material at the FAA, call (817) 222-5110.

Examining the AD Docket

You may examine the AD docket at www.regulations.gov by searching for and locating Docket No. FAA-2022-0015; or in person at Docket Operations between 9 a.m. and 5 p.m., Monday through Friday, except Federal holidays. The AD docket contains the NPRM, this SNPRM, the European Union Aviation Safety Agency (EASA) AD, any comments received, and other information. The street address for Docket Operations is listed above.

FOR FURTHER INFORMATION CONTACT: Hal Jensen, Aerospace Engineer, Operational Safety Branch, Compliance & Airworthiness Division, FAA, 950 L'Enfant Plaza N SW, Washington, DC 20024; phone: (202) 267-9167; email: hal.jensen@faa.gov.

SUPPLEMENTARY INFORMATION:

Comments Invited

The FAA invites you to send any written relevant data, views, or arguments about this proposal. Send your comments to an address listed under ADDRESSES. Include “Docket No. FAA-2022-0015; Project Identifier AD-2021-00832-R” at the beginning of your comments. The most helpful comments reference a specific portion of the proposal, explain the reason for any recommended change, and include supporting data. The FAA will consider all comments received by the closing date and may again revise this proposal because of those comments.

Except for Confidential Business Information (CBI) as described in the following paragraph, and other information as described in 14 CFR 11.35, the FAA will post all comments received, without change, to www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Hal Jensen, Aerospace Engineer, Operational Safety Branch, Compliance & Airworthiness Division, FAA, 950 L'Enfant Plaza N SW, Washington, DC 20024; telephone: (202) 267-9167; email: hal.jensen@faa.gov. Any commentary that the FAA receives which is not specifically designated as CBI will be placed in the public docket for this rulemaking.

Background

The FAA issued an NPRM to amend 14 CFR part 39 by adding an AD that would apply to Airbus Helicopters Model EC225LP helicopters, with an M/R swashplate part number (P/N) 332A31-3074-00 or P/N 332A31-3074-01 installed. The NPRM published in the Federal Register on January 26, 2022 (87 FR 3943). The NPRM proposed to supersede AD 2020-23-05, Amendment 39-21321 (85 FR 73604, November 19, 2020) (AD 2020-23-05), which applies to certain Airbus Helicopters Model EC225LP helicopters. AD 2020-23-05 requires inspecting the swashplate control rod attachment yokes (yokes) of certain swashplates, establishing a life limit, performing a one-time inspection of stripped yokes, and applicable corrective actions. AD 2020-23-05 was prompted by a crack in a yoke, which could result in failure of the yoke, loss of M/R control, and subsequent loss of control of the helicopter. AD 2020-23-05 was also prompted by EASA AD 2019-0074, dated March 28, 2019 (EASA AD 2019-0074), issued by EASA, which is the Technical Agent for the Member States of the European Union, to correct an unsafe condition for Airbus Helicopters (AH), formerly Eurocopter, Eurocopter France, Model EC 225 LP helicopters. EASA advised that Airbus Helicopters established a life limit (also called a service life limit) of 12 years for the swashplate and added a reporting requirement if there is a crack or corrosion in a yoke. EASA further advised that additional analysis determined that it is necessary to introduce a new life limit for the affected swashplates.

In the NPRM, the FAA proposed to retain all the requirements of AD 2020-23-05. The NPRM also proposed to include a revised compliance time for the initial visual inspection of the yokes on swashplates that have accumulated less than seven years since the date of manufacture; and clarification that dye penetrant inspection of the yoke is required before further flight if no cracks are detected during the visual inspection.

The NPRM was prompted by the determination that a revised compliance time is necessary for swashplates that have accumulated less than seven years since the date of manufacture. The FAA has also determined that clarification is necessary regarding when it is necessary to do a dye penetrant inspection of the yoke.

Actions Since the NPRM Was Issued

Since the NPRM was issued, EASA issued EASA AD 2019-0074R1, dated March 8, 2022 (EASA AD 2019-0074R1), which supersedes EASA AD 2019-0074. EASA advises that additional investigation confirmed that the life limit of certain swashplates can be extended and Airbus Helicopters has issued updated service information to reflect the new life limit.

Also, since the NPRM was issued, the FAA determined that swashplates that have accumulated less than 7 years since the date of manufacture are not susceptible to the unsafe condition and should be removed from paragraph (g) of the proposed AD. The FAA also determined that paragraph (g) of the proposed AD needs to be revised to include repetitive inspections for swashplates that have accumulated 7 or more years, but less than 13 years, since the date of manufacture, and the criteria for when to perform a dye penetrant inspection needs to be revised.

The FAA determined there was an error in the Background section of the NPRM, which stated, “AD 2020-23-05 was prompted by a crack in a swashplate yoke.” The FAA determined AD 2020-23-05 was not prompted by a crack in a yoke, but was prompted by testing conducted by Airbus Helicopters, which determined cracks may develop overtime. The FAA also determined that the applicable service information required by the proposed AD needs to be revised in order to include the updated revision.

Finally, the FAA determined that the time estimated for inspecting the yokes needed to be increased from 0.25 work-hour to 0.50 work-hour, which increased the estimated cost for that inspection from $21 to $43 per helicopter per inspection cycle.

Comments

The following discussion presents the comments received on the NPRM and the FAA's response.

Request To Revise the Required Actions Paragraph of the Proposed AD

Five commenters requested the FAA revise the Required Actions paragraph of the proposed AD by removing the visual inspection for swashplates that have accumulated less than 7 years since the date of manufacture. Airbus Helicopters stated that testing was performed for certain aluminum alloys and as a result Airbus Helicopters defined a calendar threshold of 7 years, after which the swashplate may present crack initiation. Airbus Helicopters further explained due to this testing, there is no rationale to require the visual inspection prior to the 7 year threshold. An additional commenter stated the inspection for swashplates that have accumulated less than 7 years since the date of manufacture is not in line with the required service information. Additionally, Air Center Helicopters Inc., explained that the EASA AD and the service information do not require repetitive visual inspections for any swashplates that have accumulated less than 7 years since the date of manufacture and that these repetitive inspections are not required until after the swashplate has accumulated 7 or more years since the date of manufacture.

The FAA agrees and has revised the Required Actions paragraph of this proposed AD by removing the inspection requirements for swashplates that have accumulated less than 7 years since the date of manufacture.

Four commenters requested the FAA revise the Required Actions paragraph to include a repetitive visual inspection, at intervals not to exceed 15 hours time-in-service (TIS) or 7 days, after certain swashplates have accumulated 7 or more years since the date of manufacture. Three commenters also requested that the FAA revise the Required Actions paragraph of this proposed AD to require that this repetitive visual inspection be performed utilizing a bright light and 10X magnifying glass.

The FAA partially agrees. The FAA agrees to revise the Required Actions paragraph of this proposed AD to include a repetitive visual inspection, at intervals not to exceed 15 hours TIS or 7 days, whichever occurs first, for swashplates that have accumulated 7 or more years, but less than 13 years, since the date of manufacture, until the swashplate accumulates 13 years since the date of manufacture. The FAA disagrees with mandating the use of a bright light and 10X magnifying glass for this repetitive visual inspection because the FAA has not determined that a bright light or 10X magnifying glass are necessary for this repetitive visual inspection; however an operator may choose to use this inspection method.

Five commenters requested the FAA revise the Required Actions paragraph to remove the dye penetrant inspection in situations where no crack is detected. Airbus Helicopters stated with regards to crack detectability, the dye penetrant inspection creates an unnecessary burden if no crack is detected visually, and should only be performed if a scratch or surface degradation is detected. Two commenters also stated performing the dye penetrant inspection, if a crack is not detected, would increase the estimated costs and downtime for operators.

The FAA agrees to revise the Required Actions paragraph of this proposed AD to include an additional visual inspection for a scratch and surface degradation, if no crack is detected. The FAA determined if any indications of scratches or surface degradation are detected during the visual inspection, a dye penetrant inspection must be performed to address the unsafe condition. Accordingly, the FAA has revised the Required Actions paragraph to require a visual inspection for a scratch and surface degradation if no cracks are visually detected, and a dye penetrant inspection if there is any scratch or surface degradation.

Five commenters requested the FAA revise the Required Actions paragraph to extend the life limit of the swashplate from 12 years to 13 years, in accordance with the revised service information.

The FAA agrees and has revised the Required Actions paragraph of this proposed AD by increasing the life limit of the swashplate to 13 years.

Request To Use Latest Revision of the Applicable Service Information

Three commenters requested that the FAA revise the proposed AD to reference EASA AD 2019-0074R1 instead of EASA AD 2019-0074. The commenters also requested that the FAA revise the proposed AD to reference Airbus Helicopters Emergency Alert Service Bulletin (EASB) No. 05A051, Revision 4, dated February 28, 2022 (EASB 05A051 Rev 4), instead of Airbus Helicopters EASB No. 05A051 and EASB No. 05A046, each Revision 2, and dated February 26, 2019.

The FAA agrees EASA AD 2019-0074R1 and EASB 05A051 Rev 4 are the appropriate sources of related information for the actions specified, and has revised this proposed AD to reference this updated information.

Request To Approve Future Revisions of the Service Information

Three commenters requested that the FAA revise the proposed AD to consider the accomplishment of future revisions of EASB 05A051 Rev 4 as acceptable for compliance with the proposed AD. Two commenters stated EASA AD 2019-0074R1 allows the use of future revisions of the applicable service information and requested that the FAA also allow compliance with later revisions. One commenter stated later revisions of the applicable service information should be allowed in order to capture future applicable appendixes, swashplate serial numbers, and swashplate manufacture dates.

The FAA disagrees with the request to allow future revisions of the applicable service information as acceptable for compliance with the proposed AD. Referring to documents that do not exist at the time the final rule is published violates Office of the Federal Register (OFR) regulations regarding approval of materials “incorporated by reference” in rules. These OFR regulations require that either the service document be submitted for approval by the OFR as “referenced” material, in which case it may be simply called out in the text of an AD, or the service document contents be published as part of the actual AD language. An AD may reference only the specific service document that was submitted and approved by the OFR for “incorporation by reference.” In order for operators to use later revisions of the referenced document (issued after the publication of the AD), either the FAA must revise the AD to reference the specific later revisions, or operators must request the approval of their use as an alternative method of compliance under the provisions of paragraph (j) of this proposed AD.

Request To Revise the Background Section of the Proposed AD

One commenter requested that the FAA revise the background section of the NPRM to indicate that no cracks to the swashplate have been detected in service, but testing by Airbus Helicopters determined that cracks could develop over time.

The FAA agrees with the commenter and has revised the Actions Since the NPRM was Issued section in this proposed AD accordingly.

FAA's Determination

These helicopters have been approved by EASA and are approved for operation in the United States. Pursuant to the FAA's bilateral agreement with the European Union, EASA has notified the FAA about the unsafe condition described in its AD. The FAA is proposing this AD after determining the unsafe condition described previously is likely to exist or develop in other helicopters of the same type design. Certain changes described above expand the scope of the NPRM. As a result, it is necessary to reopen the comment period to provide additional opportunity for the public to comment on this SNPRM.

Related Service Information Under 1 CFR Part 51

The FAA reviewed one document that co-publishes two Airbus Helicopters EASB identification numbers: EASB 05A051 Rev 4 for Model EC225LP helicopters and EASB No. 05A046 for non-FAA type-certificated Model EC725AP helicopters, Revision 4, dated February 28, 2022 (EASB 05A046 Rev 4). This service information specifies inspections for swashplate P/N 332A31-3074-00 and P/N 332A31-3074-01. This service information specifies procedures for a repetitive inspection of the yokes for a crack and a one-time inspection of the stripped yokes for corrosion and a crack. If in doubt about whether there is a crack, this service information specifies performing a nondestructive inspection.

Additionally, this service information specifies touching up the swashplate with varnish if there is corrosion, removing any damage within allowable limits, and refinishing the yokes. If there is a crack in a yoke, this service information specifies replacing the swashplate. This service information also specifies a life limit of 13 years since the date of manufacture for the swashplates and reporting requirements if a crack or corrosion is discovered. EASB 05A051 Rev 4 also updates the list of serial numbers and manufacture dates of the swashplates. EASB 05A046 Rev 4, dated February 28, 2022, is not proposed for incorporation by reference in this SNPRM.

This service information is reasonably available because the interested parties have access to it through their normal course of business or by the means identified in the ADDRESSES section.

Proposed AD Requirements in This SNPRM

This proposed AD would retain some of the requirements of AD 2020-23-05. This proposed AD would also require compliance with a revised life limit, a repetitive visual inspection of the yokes on swashplates that have accumulated 7 or more years, but less than 13 years, since the date of manufacture; and if a crack is detected, removing the swashplate from service. If no cracks are detected but a scratch or surface degradation is detected, this proposed AD would require performing a dye penetrant inspection of the yoke. If a crack is detected during the dye penetrant inspection, this proposed AD would require removing the swashplate from service.

Differences Between This SNPRM and EASA AD 2019-0074R1 or the Service Information

EASB 05A051 Rev 4 requires performing a non-destructive inspection if in doubt about whether there is a crack in a yoke. This proposed AD would require a visual inspection and if no cracks are detected, visually inspecting for a scratch and surface degradation. If a scratch or surface degradation is detected, this proposed AD would require a non-destructive inspection (dye penetrant inspection). EASB 05A051 Rev 4 also specifies sending the swashplate back to Airbus Helicopters if cracks are found, whereas this proposed AD would not require sending any affected parts back to Airbus Helicopters.

EASA AD 2019-0074R1 specifies instructions for reporting inspection results, whereas this proposed AD would not require reporting inspection results.

Costs of Compliance

The FAA estimates that this AD, if adopted as proposed, would affect 28 helicopters of U.S. Registry. Labor rates are estimated at $85 per work-hour. Based on these numbers, the FAA estimates the following costs to comply with this proposed AD.

Estimated Costs for Required Actions
Action | Labor cost | Parts cost | Cost per product | Cost on U.S. operators
Determination of the manufacture date of the swashplate | 0.5 work-hour × $85 per hour = $43 | $0 | $43 | $1,204.
Inspecting the yokes | 0.5 work-hour × $85 per hour = $43 per inspection cycle | 0 | 43 per inspection cycle | 1,204 per inspection cycle.
Removing grease, stripping the yokes, and inspecting the stripped yokes | 8 work-hours × $85 per hour = $680 | 0 | 680 | 19,040.
Creating a life limit record | 1 work-hour × $85 per hour = $85 | 0 | 85 | 2,380.

The FAA estimates the following costs to do any necessary on-condition actions that would be required based on the results of any required actions. The FAA has no way of determining the number of aircraft that might need these on-condition actions:

Estimated Costs of On-Condition Actions
Action | Labor cost | Parts cost | Cost per product
Removing any corrosion or repairing damage within the allowable limit | 3 work-hours × $85 per hour = $255 | $0 | $255
Replacing the swashplate | 6 work-hours × $85 per hour = $510 | 85,661 | 86,171
Dye-penetrant inspection | 6 work-hours × $85 per hour = $510 | 50 | 560

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2020-23-05, Amendment 39-21321 (85 FR 73604, November 19, 2020; and

b. Adding the following new airworthiness directive:

Airbus Helicopters: Docket No. FAA-2022-0015; Project Identifier AD-2021-00832-R.

(a) Comments Due Date

The FAA must receive comments on this airworthiness directive (AD) action by September 12, 2022.

(b) Affected ADs

This AD replaces AD 2020-23-05, Amendment 39-21321 (85 FR 73604, November 19, 2020) (AD 2020-23-05).

(c) Applicability

This AD applies to Airbus Helicopters Model EC225LP helicopters, certificated in any category, with a main rotor (M/R) rotating swashplate (swashplate) part number (P/N) 332A31-3074-00 or P/N 332A31-3074-01 installed.

(d) Subject

Joint Aircraft Service Component (JASC) Code: 6230, Main Rotor Mast/Swashplate.

(e) Unsafe Condition

This AD was prompted by results of testing, which determined that a crack could develop in a swashplate control rod attachment yoke (yoke), and the notification of a new life limit for certain swashplates. The FAA is issuing this AD to detect and correct a crack in a yoke. The unsafe condition, if not addressed, could result in failure of the yoke, loss of M/R control, and subsequent loss of control of the helicopter.

(f) Compliance

Comply with this AD within the compliance times specified, unless already done.

(g) Required Actions

Before further flight, review Appendix 4.A. of Airbus Helicopters Emergency Alert Service Bulletin (EASB) No. 05A051, Revision 4, dated February 28, 2022 (EASB 05A051 Rev 4) to determine the date of manufacture of the swashplate.

(1) If the swashplate has accumulated 13 or more years since the date of manufacture, remove the swashplate from service.

(2) If the swashplate has accumulated less than 13 years since the date of manufacture, create a component history card or equivalent record indicating a life limit of 13 years since the date of manufacture. Thereafter, continue to record the life limit of the swashplate on its component history card or equivalent record and remove any swashplate from service before accumulating 13 years since the date of manufacture.

(3) For each swashplate that has accumulated 7 or more years, but less than 13 years, since the date of manufacture, within 15 hours time-in-service (TIS) or 7 days, whichever occurs first after the effective date of this AD, and thereafter at intervals not to exceed 15 hours TIS or 7 days, whichever occurs first, until the swashplate accumulates 13 years since the date of manufacture, visually inspect each yoke for a crack, paying particular attention to the areas shown in Details B, C, and D of Figure 1 of EASB 05A051 Rev 4. If there is any crack on the yoke, before further flight, remove the swashplate from service.

(i) If no cracks are visually detected, before further flight, visually inspect for a scratch and surface degradation on the yoke.

(ii) If there is any scratch or surface degradation on the yoke, before further flight, perform a dye penetrant inspection of the yoke for a crack.

(iii) If there is any crack on the yoke, before further flight, remove the swashplate from service.

(4) For each swashplate that has accumulated 7 or more years, but less than 13 years, since the date of manufacture, within 100 hours TIS after the effective date of this AD:

(i) Remove the grease from areas (E), (F), (G), (H), (J), and (K) of each yoke as shown in Details B, C, and D of Figure 1 of EASB 05A051 Rev 4. Using a plastic spatula, strip areas (E), (F), (G), (H), (J), and (K) of each yoke as shown in Details B, C, and D of Figure 1 of EASB 05A051 Rev 4. Do not use a metal tool to strip any area of a yoke.

(ii) Inspect areas (E), (F), (G), (H), (J), and (K) of each yoke as shown in Details B, C, and D of Figure 1 of EASB 05A051 Rev 4 for corrosion, pitting, and loss of material.

(A) If there is any corrosion less than 0.0078 in. (0.2 mm), before further flight, remove the corrosion and apply varnish (Vernelec 43022 or equivalent) to the surface of areas (E), (F), (G), (H), (J), and (K).

(B) If there is any pitting or loss of material of less than 0.0078 in. (0.2 mm), before further flight, remove the damage by sanding with sandpaper 200/400 or 330.

(C) If there is any corrosion, pitting, or loss of material of 0.0078 in. (0.2 mm) or greater, before further flight, remove the swashplate from service.

(iii) Visually inspect each yoke for a crack, paying particular attention to the areas shown in Details B, C, and D of Figure 1 of EASB 05A051 Rev 4.

(A) If there is any crack on the yoke, before further flight, remove the swashplate from service.

(B) If no cracks are visually detected, before further flight, perform the actions as required in paragraphs (g)(3)(i) through (iii) of this AD.

(h) Credit for Previous Actions

If you performed the actions in paragraph (g)(4) of this AD before the effective date of this AD using Airbus Helicopters EASB No. 05A051, Revision 1, dated November 16, 2017; Airbus Helicopters EASB No. 05A051, Revision 2, dated February 26, 2019; or Airbus Helicopters EASB No. 05A051 Revision 3, dated December 7, 2021, you have met the requirements of paragraph (g)(4) of this AD.

(i) Special Flight Permit

Special flight permits are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD. Information may be emailed to: 9-AVS-AIR-730-AMOC@faa.gov.

(2) Before using any approved AMOC, notify your appropriate principal inspector, or lacking a principal inspector, the manager of the local flight standards district office/certificate holding district office.

(k) Related Information

(1) For more information about this AD, contact Hal Jensen, Aerospace Engineer, Operational Safety Branch, Compliance & Airworthiness Division, FAA, 950 L'Enfant Plaza N SW, Washington, DC 20024; telephone: (202) 267-9167; email: hal.jensen@faa.gov.

(2) For service information identified in this AD, contact Airbus Helicopters, 2701 North Forum Drive, Grand Prairie, TX 75052; phone: (972) 641-0000 or (800) 232-0323; fax (972) 641-3775; or at www.airbus.com/helicopters/services/technical-support.html. You may view this referenced service information at the FAA, Office of the Regional Counsel, Southwest Region, 10101 Hillwood Pkwy., Room 6N-321, Fort Worth, TX 76177. For information on the availability of this material at the FAA, call (817) 222-5110.

(3) The subject of this AD is addressed in European Union Aviation Safety Agency (EASA) AD 2019-0074R1, dated March 8, 2022. You may view the EASA AD at www.regulations.gov in Docket No. FAA-2022-0015.

Issued on July 22, 2022.
Gaetano A. Sciortino,
Deputy Director for Strategic Initiatives, Compliance & Airworthiness Division, Aircraft Certification Service.

[FR Doc. 2022-16163 Filed 7-28-22; 8:45 am]

BILLING CODE 4910-13-P